CORPORATION FOR NATIONAL AND COMMUNITY SERVICE

Availability of Funds for National Provider of Information and Training and Technical Assistance to Faith-Based and Small Community Organizations Using Service and Volunteerism as a Strategy To Meet Community Needs

AGENCY: Corporation for National and Community Service.

ACTION: Notice of availability of funds.

SUMMARY: The Corporation for National and Community Service (Corporation) announces the availability of funds for an organization selected under this Notice to provide information concerning available resources and training and technical assistance, to assist faith-based and small community organizations using service and volunteers to meet the needs of individuals whom prosperity has left behind. The Corporation intends to enter into a cooperative agreement of up to three years, beginning on or about August 1, 2001. The funds available under this Notice will support the initial phase of the agreement (generally the first year's budget), with additional funding contingent upon need, quality of service, and availability of appropriations for this purpose.

The Corporation anticipates making up to $400,000 available for the first year of this award. This amount is approximate and for the first year only and may change depending upon the availability of appropriations and the nature and scope of activities to be supported.

Note: This is a notice for selection of organizations to provide information concerning available resources, and training and technical assistance, to faith-based and small community organizations. This is not a notice for program grant proposals.

DATES: The Corporation must receive Proposals by 3 pm Eastern time on July 9, 2001.

ADDRESSES: Submit proposals to the Corporation for National and Community Service, 1201 New York Avenue, NW., Washington, DC 20525, Attention: Jim Ekstrom.

FOR FURTHER INFORMATION CONTACT: Arthurine Walker, Jim Ekstrom, or Christine Benero at the Corporation for National and Community Service, (202) 606-5000, extensions 423, 139, or 193; TTY (202) 565-2799; email awalker@cns.gov, or jekstrom@cns.gov, or cbenero@cns.gov. This Notice is available on the Corporation's web site, http://www.nationalservice.org/whatshot/notices/. Upon request, this information will be made available in alternate formats.

SUPPLEMENTARY INFORMATION:

I. Background

Earlier this year the President signed two Executive Orders emphasizing the role of faith-based organizations and community groups in assisting those whom prosperity has left behind. The Administration's document, A Blueprint for New Beginnings, notes that: “In every instance where this Administration sees a responsibility to help people, it will look first to faith-based organizations, charities, and community groups that have shown the ability to save and change lives.”

The Corporation supports this agenda through all of its programs, which are described below. Since 1993, we have had extensive experience working with faith-based organizations such as Habitat for Humanity, Lutheran Services in America, the Catholic Network for Volunteer Services, and the National Jewish Coalition for Literacy.

The Corporation for National and Community Service was established in 1993 to engage Americans of all ages and backgrounds in service to their communities. The Corporation's national and community service programs provide opportunities for participants to serve full-time and part-time, with or without stipend, as individuals or as part of a team. AmeriCorps*State, National, VISTA, and National Civilian Community Corps programs engage thousands of Americans on a full, or part-time basis, at over 1,000 locations to help communities meet their toughest challenges. Learn and Serve America integrates service into the academic life or experiences of nearly one million youth from kindergarten through higher education in all 50 states. The National Senior Service Corps uses the skills, talents and experience of over 500,000 older Americans to help make communities stronger, safer, healthier and smarter.

AmeriCorps*State and AmeriCorps*National programs, which involve over 40,000 Americans each year in results-driven community service, are grant programs managed by: (1) Governor-appointed state commissions (see “Glossary of Terms”) that select and oversee programs operated by local organizations; (2) national non-profit organizations that act as parent organizations (see “Glossary of Terms”) for operating sites across the country; (3) Indian tribes; or (4) U.S. Territories.

Learn and Serve America provides service-learning opportunities for approximately 1.2 million youth and students in 2,500 projects annually through grants to state education agencies (see “Glossary of Terms”), Indian Tribes and U.S.Territories, nonprofit agencies, community-based organizations, and higher education institutions and organizations. The National Senior Service Corps awards grants to nearly 1,300 local organizations to operate the Retired and Senior Volunteer (RSVP), Foster Grandparent (FGP) and Senior Companion (SCP) programs in their communities.

In addition, the Corporation supports the AmeriCorps*VISTA (Volunteers in Service to America) and AmeriCorps*NCCC (National Civilian Community Corps) programs. Annually more than 6,000 AmeriCorps*VISTA members develop grassroots programs, mobilize resources and build capacity for service across the nation. AmeriCorps*NCCC provides the opportunity for approximately 1,000 individuals between the ages of 18 and 24 to participate each year in ten-month residential programs located mainly on inactive military bases. For additional information on the national service programs supported by the Corporation, go to http://www.nationalservice.org.

Training and technical assistance for Corporation programs takes place at local, state, regional and national levels, with most occurring at the local and state levels.

To ensure equity and to promote quality, the Corporation funds a series of national training and technical assistance agreements.

II. Eligibility

State and local government entities, non-profit organizations, institutions of higher education, Indian tribes, and commercial entities are eligible to apply. Pursuant to the Lobbying Disclosure Act of 1995, an organization described in section 501(c)(4) of the Internal Revenue Code of 1986, 26 U.S C. 501(c)(4), which engages in lobbying, is not eligible to apply. Organizations that operate or intend to operate Corporation-supported programs are eligible.

We will consider proposals from single applicants and applicants in partnership. We will also consider proposals from applicants proposing other approaches to meeting the requirement that we consider to be responsive to this Notice.

Organizations may apply to provide information, and training and technical assistance, in partnership with organizations seeking other Corporation funds. Based on previous training and technical assistance competitions and our estimate of potential applicants, we expect fewer than ten applications to be submitted in response to this notice.

III. Conditions

A. Legal Authority

This notice is authorized under the National and Community Service Act of 1990, 42 U.S.C. 12501 et seq., and the Domestic Volunteer Service Act of 1973, 42 U.S.C. 4950 et seq.

B. Cooperative Agreements

The award made under this Notice will be in the form of a cooperative agreement. Administration of cooperative agreements is controlled by Corporation regulations, 45 CFR part 2541 (for agreements with state and local government agencies) and 45 CFR part 2543 (for agreements with institutions of higher education, non-profit organizations and commercial entities). The provider must comply with reporting requirements, including submitting semi-annual financial reports and progress reports linking progress on deliverables to expenditures.

Cooperative agreements require substantial involvement on the part of the government. Substantial involvement includes frequent and regular communication with, and monitoring by, the Corporation's cognizant officer.

C. Time Frame

The Corporation expects that activities assisted under the agreement awarded through this Notice will commence on or about August 1, 2001, following the conclusion of the selection and award process. The Corporation will make an award covering a period not to exceed three years. Applications must include a detailed work plan of proposed activities and a line-item budget for year one of the agreement and should note projected changes to proposed activities for years two and three of the award period. If the Corporation approves an application and enters into a multi-year award agreement, at the outset it will provide funding only for the first year of the award period. The Corporation has no obligation to provide additional funding in subsequent years. Funding for the second and third years of an award period is contingent upon satisfactory performance, the availability of funds, and any other criteria established in the award agreement.

D. Use of Materials

To ensure that materials generated with Corporation funding for training and technical assistance purposes are available to the public and readily accessible, the Corporation reserves a royalty-free, non-exclusive, and irrevocable right to obtain, use, reproduce, publish, or disseminate publications and materials produced under the agreement, including data, and to authorize others to do so. The provider must agree to make such publications and materials available to the national service field, as identified by the Corporation, at no cost or at the cost of reproduction. All materials developed with Corporation funding must be consistent with Corporation editorial and publication guidelines and must be accessible to individuals with disabilities to the extent required by law.

IV. Scope of Activities To Be Supported

The provider selected under this Notice will:

(a) Provide information concerning national service resources and other volunteer service resources;

(b) Make referrals to other federal government and state agencies;

(c) Assist state service commissions and others, where appropriate, with the development of statewide coalitions to coordinate local outreach and serve as intermediaries; and

(d) Provide or broker technical assistance and/or training services.

The majority of activities over the life of the agreement will likely fall into the first three categories. However, the provider should be prepared to provide, coordinate or broker training services, materials development, and ongoing technical assistance possibly in conjunction with other Corporation T/TA providers (for a current list go to www.etr/nsrc/org). The provider will tailor such training services to the specific needs of faith-based and small community organizations using service and volunteers to meet community needs. Training services may particularly come into play as the provider carries out the requirements of the third category; supporting state service commissions and others in the development of statewide coalitions. Under item (b), the provider is expected to handle general inquiries concerning programming and funding opportunities available throughout the federal government from small community and faith-based organizations. The services provided under item (d) will be available to faith-based and small community organizations without regard to whether such organizations become Corporation grantees or sub-grantees.

The Corporation recently conducted a meeting of faith-based and small community organizations to help us identify steps that we could take to make our resources more accessible to such organizations. We learned that such organizations need information about resources and support available at the Corporation and from other federal, state, and local agencies, as well as training and technical assistance in the use of volunteers and service in meeting community needs.

Based upon this meeting and input from other interested parties, the Corporation is seeking a provider who will meet these needs. The provider must integrate the deliverables and principles listed below into its service delivery. The provider is further expected to conduct activities that will reflect and support the diversity of faith-based and small community organizations.

A. Tasks Related to IV(a) and (b) Providing Information to Faith-Based and Community Organizations

1. Systems

a. Electronically track information requests, referrals and services provided based on guidance from the Corporation.

b. Provide follow-up to assure that the needs of the faith-based and small community organization are addressed.

2. Audience and Outreach

a. Respond to ongoing requests for information from faith-based and small community organizations concerning national and community service resources.

b. Advertise services to assure awareness.

c. Work with the faith-based and small community organizations that request assistance to identify and clarify their needs and determine an appropriate service response.

3. Delivery

a. Set up and staff a toll-free 800 number to provide support for faith-based and small community organizations.

b. Develop and set up an appropriate technological capacity to handle incoming requests for information.

c. Provide follow-up, ongoing support for organizations to assure connections with national and community service resources. Report on the results of this follow-up.

d. Refer small community and faith-based organizations to other federal government agencies, and states and local organizations, as appropriate, in those situations where requests cannot be met by national and community service resources.

4. Evaluation

a. Develop and submit a plan for evaluating the impact of information services, particularly the impact on the organization's needs and the principles and deliverables of this Notice.

b. Conduct an assessment after each training and technical assistance event.

B. Tasks Related to IV(c) and (d) Supporting State Service Commissions in the Development of State-Wide Coalitions and Brokering of Training and Technical Assistance

1. Systems

a. Electronically track requests, referrals and services provided based on guidance from the Corporation.

b. Develop a system for referring state service commissions and other organizations to local content area experts or Corporation T/TA providers who can provide staff, member and volunteer training to faith-based and small community groups.

2. Audience and Outreach

a. In collaboration with training and technical assistance staff, develop and implement an outreach plan to state service commissions, Corporation State Offices, State Education Agencies, and other key state-wide organizations regarding the usefulness of intermediaries in assisting faith-based and small community organizations and to promote the provider's services in helping to start and develop state-wide coalitions or intermediaries to support local faith-based and small community organizations.

b. Work with state service commissions and other statewide organizations that request assistance to identify and clarify their needs and determine an appropriate service response.

c. Develop and maintain a web site of research, effective practices, and training and technical assistance resources in the provider's area with links to national service sites, as directed by the Corporation.

d. Respond to any individual requests for guidance and support from faith-based and small community organizations and determine appropriate referral for technical assistance.

3. Capacity-Building Services

a. Provide information, materials, and consulting support to state service commissions and other statewide organizations interested in starting coalitions or intermediaries to support local faith-based and small community organizations in gaining greater access to federal resources.

b. If training services are determined to be needed in order to help state commissions or other statewide organizations develop capacity to support coalitions and intermediaries, schedule and coordinate logistics of training services with the state commission, state education agency, and Corporation state office or with state office cluster-wide training activities.

c. Where appropriate, directly provide or coordinate training and technical assistance for faith-based or small community organizations.

d. Develop course and publication outlines and descriptions in collaboration with Corporation staff.

e. Ensure that all training and technical assistance and resources including web sites are accessible to persons with disabilities as required by law to include the following:

i. Notifying potential participants that reasonable accommodations will be provided upon request;

ii. Providing reasonable accommodations when requested to do so, including provision of sign language interpreters, special assistance, and documents in alternate formats;

iii. Using accessible locations for training events;

iv. Providing training and technical assistance materials that are accessible to persons with disabilities, by using accessible technology, providing materials in alternate formats upon request, captioning videos and not using solely a non-voice-over format, and when indicating a telephone number, including a non-voice telephone alternative such as TDD or e-mail;

v. Deliver training that enhances the capacity of participants to function independently and effectively, which includes, but is not limited to, the following:

—Using transfer-of-skills methods and train-the-trainer models in delivering services following guidelines provided by the Corporation;

—Providing structured opportunities for peer-to-peer assistance during and after all on-request and scheduled training events;

—Developing and disseminating training event packets that include the training agenda, handouts and list of training event participants.

4. Effective Practices

a. Research, identify, document and transmit effective tools and practices through all the provider's training and technical assistance services.

b. Submit effective tools and practices in stipulated format to the Effective Practices Information Center database (EpiCenter—see “Glossary of Terms”), and, if appropriate, to the National Service-Learning Clearinghouse; encourage grantee use of same.

c. Develop and implement a dissemination plan for all materials (e.g., publications, videotapes, etc.) produced under the agreement.

5. Evaluation

a. Develop and submit a plan for evaluating the impact of training and technical assistance services, particularly the impact of training events relative to each training event's objectives and the principles and deliverables of this Notice.

b. Conduct an assessment after each training and technical assistance event.

c. Maintain records of these evaluations and provide them to the Corporation, or an authorized representative, upon request.

d. Submit aggregate evaluation summaries of training and technical assistance events' evaluations as part of progress reports to the Corporation.

e. The Corporation may conduct an independent assessment of each provider's performance.

7. Reporting Requirements

The provider is responsible for submitting timely progress and financial reports during and at the conclusion of the award period to the Corporation as follows:

a. Semi-annual Progress Reports. Progress reports must be submitted semi-annually and are due January 31, 2002, for the period ending December 30, 2001, and July 31, 2002, for the period ending June 30, 2002. The provider must develop the capacity to submit this information electronically. At a minimum, progress reports must provide the information below:

i. A comparison of accomplishments with the goals and objectives for the reporting period;

ii. An annotated version of the approved budget that compares actual costs with budgeted costs by line item, and explains differences. The explanation should include, as appropriate, an analysis of cost overruns and high-cost units and a description of service requests not anticipated in the provider's original budget;

iii. A description of the services provided to include:

(a) Number of requests received;

(b) Activity conducted to address each request;

(c) Number of participants to whom information was provided and/or affected by each training and technical assistance event;

(d) Client feedback on the services; and

(e) Problems encountered in delivering services with recommendations for correcting them.

iv. List of upcoming activities and events with dates and locations;

v. Recommended training and technical assistance focus areas as suggested by analyses of service activities and trends;

vi. Discussion of developments that hindered, or may hinder, compliance with the cooperative agreement;

vii. List of materials submitted to the National Service Resource Center and National Service-learning Clearinghouse;

viii. List of practices and supporting documentation or materials submitted to the Effective Practices Information Center database (EpiCenter).

b. Financial reports must be submitted semi-annually to include a summary of expenditures during the period. A cumulative report must be submitted on the Financial Status Report (FSR) form SF 269A.

c. Final Reports. i. Upon completing the final year of the agreement, the provider must submit, in lieu of the last semiannual progress report, a final progress report that is cumulative over the entire award period. This final progress report is due within 90 days after the close of the agreement.

ii. Upon completing the final year of the award, the provider must submit, in lieu of the last semi-annual FSR, a final FSR that is cumulative over the entire award period. This FSR is due within 90 days after the end of the agreement.

d. Financial reports must be submitted in three (3) copies to the Office of Grants Management. Progress reports shall be submitted in three (3) copies to the Corporation's cognizant training officer of the award.

e. The provider must meet as necessary with the cognizant training officer or with other staff or consultants designated by the Corporation training official to exchange views, ideas, and information concerning T/TA. The provider must submit such special reports as may be reasonably requested by the Corporation.

7. Other Requirements

a. Assure that provider staff and consultants are fully versed in the background, approach, vocabulary, assets, needs and objectives of the Corporation and each of its program streams.

b. Participate in the planning and implementation of conferences and training events as requested by the Corporation.

c. Collaborate in materials' development and training events organized by other providers or the Corporation, as requested.

d. Share effective practices with other providers through the training and technical assistance listserv, the Effective Practices Information Center database (EpiCenter) and other mechanisms such as the National Service-Learning Clearinghouse and the National Service Resource Center (see “Glossary of Terms”).

e. Creatively and effectively use technology as a cost-effective strategy for reaching large numbers of organizations.

V. Application Guidelines

A. Proposal Content and Submission

Applicants must submit one unbound, original proposal and two bound copies. Applicants may voluntarily submit two additional bound copies for a total of four copies. Proposals may not be submitted by facsimile. Page limits are provided as a guide. Proposals must include the following:

1. Cover Page

The cover page must include the name, address, phone number, fax number, e-mail address of the contact person and World Wide Web site URL (if available) of the applicant organization; the category for which the application is being submitted; a 25-50 word summary of proposed information and training and technical assistance activities; and, the total funding amount requested for the first year.

2. List of Activities and Materials

A one-two page list of all proposed information and training and technical assistance activities and materials.

3. Information and Capacity-Building Delivery Plan

A bulleted narrative of approximately 20 double-spaced, single-sided, typed pages in no smaller than 12-point font that includes:

a. The applicant's proposed strategy and rationale for providing information and capacity-building support to state service commissions, other statewide organizations, and a diverse audience of faith-based and small community organizations for year one with proposed changes (if any) for years two and three. The applicant should use the specific deliverables and requirements outlined in Section IV of this Notice as a starting point for a plan and should present these deliverables in a way that creatively reflects the applicant's areas of expertise and knowledge of faith-based and small community organization audiences. It is not sufficient to simply re-list the tasks stated in this Notice. As appropriate, the applicant should also include the following information for each proposed information and capacity-building support activity, product, or event: type of activity, number, frequency, audience, information, knowledge and skills individuals will gain, estimated audience size, content, skill level, proposed needs assessment and continuous improvement strategies.

b. A detailed one-year work plan and timeline for completing all information and training and technical assistance activities. The work plan should include all deliverables and the tasks leading to them.

c. A plan for regularly evaluating performance and using findings for continuous improvement.

4. Technology Strategy

A one-page description of how applicant proposes to use technology, particularly e-learning, to effectively broaden the reach of information and training delivery. Description should include target audience; proposed use of technology; rationale for approach; types of information being shared; concepts and skills to be delivered under training, including desired learner outcomes; and how outcomes will be achieved.

5. Description of Organizational Capacity

An organizational chart that clearly shows the place of the provider in the parent organization's structure and resumes and a narrative of approximately three double-spaced, single-sided, typed pages in no smaller than 12-point font which describes:

a. The organization's capacity to provide information and capacity-building support services nationwide, including descriptions of recent work similar to that being proposed.

b. The organization's knowledge of and experience with faith-based and community organizations and national and community service.

c. The organization's ability to leverage the expertise and resources of a broad base of organizations to achieve the objectives under this Notice.

d. References that can be contacted related to the organization's capacity.

e. List of proposed staff that includes each one's areas of expertise. (Note: Final list will be subject to Corporation approval.)

6. Budget

A detailed, line-item budget with costs organized by personnel, task and sub-task and related to the activities and deliverables outlined in the introductory narrative and work plan. Costs in proposed budgets must consist solely of costs allowable under applicable cost principles found in OMB Circulars.

Applicants should be mindful that a demonstrated commitment to providing services in the most cost-effective manner possible will be a major consideration in the evaluation of proposals. Provider match is not required. The budget should include:

a. Proposed staff and expert-consultant hours and pay rates by task and sub-task;

b. Types and quantities of other direct costs being proposed by task and subtask (for example, amounts of travel and volume of other task-related resources, such as communications, postage, etc.).

7. Budget Narrative

Provide a budget narrative that corresponds with all items in the line-item budget and that includes an explanation and cost basis for all cost estimates that appear in the line-item budget. The narrative should clearly show the following:

a. How each cost was derived, using equations to reflect all factors considered.

b. The anticipated unit cost (with derivation) of the various deliverables (such as training events, publications and technical assistance interventions).

B. Selection Criteria

The Corporation will assess applications based on the criteria listed below.

1. Quality (25%)

The Corporation will consider the quality of the proposed activities based on:

a. Evidence of the applicant's knowledge of faith-based and small community organizations, the goals of the Corporation and its various programs (see Section VI. “Glossary”), and the Corporation's information sharing and training and technical assistance requirements and principles as outlined in this Notice and demonstrated by applicant's past experience and proposed approach.

b. Evidence of the applicant's knowledge of adult learning and experience in training adults; the audience appropriateness, strategic nature (i e., broad reaching and capacity-building), effectiveness and creativity of the applicant's approach.

2. Organizational and Personnel Capacity (35%)

The Corporation will consider the organizational capacity of the applicant to deliver the proposed services based on:

a. Evidence of the organization's experience in delivering high-quality information and capacity-building support to faith-based and small community organizations in a flexible, responsive, collaborative and creative manner; experience with or knowledge of national or community service as described by applicant; experience using technology as an outreach tool.

b. Evidence of experience providing information to, and training and technical assistance to, adults who work in or with faith-based or small community organizations on the part of the proposed staff and consultants as demonstrated by annotated staff lists or resumes.

c. Demonstrated ability to manage a federal grant or apply sound fiscal management principles to grants and cost accounting as evidenced by an annotated list of applicant's previous grants experience.

d. Demonstrated ability to provide information and capacity-building support services nationwide as evidenced by proposed technology plan, proposed staffing and previous levels of activity and experience.

e. Demonstrated ability to leverage the expertise and resources of a broad base of organizations.

3. Evaluation (15%)

The Corporation will consider how the applicant:

a. Proposes to assess the effectiveness and need for its services and products delivered under the award.

b. Plans to use assessments of its services and products to modify and improve subsequent services and products.

4. Budget (25%)

The Corporation will consider the budget based on:

a. Cost of each proposed activity in relation to the scope and depth of the services proposed (i.e., the number of states, programs and individuals the proposed activities are intended to reach);

b. The clarity and thoroughness of the budget and budget narrative (see specifications under “Budget Narrative”).

VI. Glossary of Terms

Clusters

The Corporation's field offices are organized into five regions (“clusters”) as follows:

Atlantic:

Connecticut, Delaware, Maine, Maryland, Massachusetts, New Hampshire, New Jersey, New York, Pennsylvania, Puerto Rico, Rhode Island, Vermont, Virgin Islands

North Central:

Illinois, Indiana, Iowa, Michigan, Minnesota, Nebraska, North Dakota, Ohio, South Dakota, Wisconsin

Pacific:

Alaska, American Samoa, California, Guam, Hawaii, Idaho, Mariannas, Montana, Nevada, Oregon, Utah, Washington, Wyoming

South:

Alabama, District of Columbia, Florida, Georgia, Kentucky, Mississippi, North Carolina, South Carolina, Tennessee, Virginia, West Virginia

Southwest:

Arizona, Arkansas, Colorado, Kansas, Louisiana, Missouri, New Mexico, Oklahoma, Texas

Cluster-Based Training

Training events planned in conjunction with the Corporation's training and technical assistance officer and the commissions, state offices, state education agencies or Tribal, national direct and higher education grantees in a particular region.

Corporation State Office

The Corporation-staffed office that, within a state, manages VISTA activities, oversees Senior Corps activities, and otherwise supports programs funded under the national service laws. Corporation state offices are organized by cluster.

Effective Practice(s)

The following definition is used to guide submissions of effective practice(s) to the Effective Practices Information Center (EpiCenter): An effective practices is an action or series of actions by a grantee, program staff, national service participant, or technical assistance provider that helps to solve an essential problem facing a national service program and the community it serves, leading to a successful outcome. Effective practices address issues shared by program staff or national service participants across local program or operating sites and can be replicated in or adapted to serve in more than one locale. Effective practices can be described and documented in terms of (1) the problem it solves; (2) the context in which it has been successful; (3) the level of outcome or impact it helped to achieve; and (4) evidence of success of the practice.

Effective Practices Information Center (EpiCenter)

EpiCenter is the Corporation's online database of effective program practices in national service. Its mission is to support practitioners in developing sustainable programs that lead to positive outcomes for beneficiaries, participants, institutions, and communities and to make this information widely accessible across the national service network. Providers are required to submit effective training and program practices to EpiCenter. The database can be visited at www.nationalservice.org/resources/epicenter.

Grantees

Entities funded directly by the Corporation. These include and are not limited to: state commissions; state education agencies; Tribes and U.S.Territories; national direct parent organizations; institutions, consortia and organizations of higher education; local governments; and non-profit organizations. Many grantees also subgrant a significant portion of their funds to others (e.g., a state commission conducts a competition and review process and funds AmeriCorps programs throughout a state; a state education agency (SEA) conducts a competition and review process and funds school systems throughout a state). Regulations do not allow the 1,300 Senior Corps grantees to subgrant.

Learn and Serve America National Service-Learning Clearinghouse

The Learn and Serve America National Service-Learning Clearinghouse is a collaborative effort among twelve national partner organizations to collect and disseminate information on service-learning for national service awardees and the general public engaged in service-learning. The Clearinghouse maintains and operates a web site and service-learning listservs, a library of print and media materials related to service-learning, and a toll-free information and referral service. Providers are required to submit copies of service-learning related training materials and training scripts to the Learn and Serve America National Service-Learning Clearinghouse.

National Service Resource Center (NSRC)

The National Service Resource Center (NSRC) serves as a repository of information on all aspects of national service. The NSRC manages most of the Corporation's listservs. Training and technical assistance publications are posted or distributed by the NSRC and its web site includes a calendar of training events and links to all current providers.

Parent Organization

The legal applicant for Corporation for National Service national direct funds; the organization responsible for the management and oversight of the national direct grant.

State Education Agency

Refers to the officer or agency primarily responsible for that state's supervision of public elementary and secondary schools.

State Service Commission

Refers to the State agency with responsibility for, among other things, selecting and overseeing national service programs, developing a unified state plan incorporating all streams of service, providing training and technical assistance to national service programs, and supporting recruitment and other public awareness activities.

Stream of Service

Refers to the Corporation's three programs: AmeriCorps, Learn and Serve America and National Senior Service Corps. Cross-stream activities, therefore, refer to activities conducted or attended by representatives from more than one program stream.

Subgrantees

Many Corporation awardees competitively award a significant portion of their funds to other entities known as subgrantees State commissions, for example, subgrant to local non-profit organizations. Senior Corps programs do not subgrant (see “Grantees”).

Substream of Service

Refers to the categories within each of the above streams and includes the following:

AmeriCorps

AmeriCorps*State

AmeriCorps*National

AmeriCorps*Promise Fellows

AmeriCorps*VISTA

AmeriCorps*National Civilian Community Corps

Learn and Serve America

Learn and Serve America K-12 School-Based and Community-Based Programs

Learn and Serve America Higher Education Programs

National Senior Service Corps

Foster Grandparent Program

Retired and Senior Volunteer Program (RSVP)

Senior Companion Program

Training and Technical Assistance Listserv

Currently managed by the National Service Resource Center, the training and technical assistance listserv is one way providers share best practices with one another. Providers also share effective practices through the Effective Practices Information Center (EpiCenter) and the National Service-Learning Clearinghouse.

Dated: June 1, 2001.
George Gary Kowalczyk,
Coordinator, National Service Programs, Corporation for National and Community Service.

[FR Doc. 01-14402 Filed 6-7-01; 8:45 am]

BILLING CODE 6050-$$-P